DEPARTMENT OF HOMELAND SECURITY

Federal Emergency Management Agency

[Docket ID: FEMA-2024-0008; OMB No. 1660-0023]

Agency Information Collection Activities: Submission for OMB Review, Comment Request; Community Assistance Contact (CAC) Reports, Community Assistance Visit (CAV) Reports, and National Flood Insurance Program (NFIP) Compliance Audit Reports

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. FEMA invites the general public to take this opportunity to comment on a revision of a currently approved information collection. In accordance with the requirements of the Paperwork Reduction Act of 1995, this notice seeks comments concerning the effectiveness of a community's implementation of the National Flood Insurance Program's (NFIP's) Community Assistance Contact (CAC) and Community Assistance Visits (CAV) Reports. FEMA is moving away from CAV and CAC reports to the newly designed process of NFIP Compliance Audits in response to a report issued on May 5, 2020, by the Government Accounting Office (GAO) entitled “National Flood Insurance Program: FEMA Can Improve Community Oversight and Data Sharing.” This report gave several recommendations including the following: assess different approaches for ensuring compliance with NFIP requirements and ensure data on community visits are up-to-date and complete. While the new NFIP Compliance Audit process aligns with the old CAV and CAC processes, it is more organized, more consistent, more transparent, allows for better documentation, and more efficiently focuses resources to where they are needed most.

DATES: Comments must be submitted on or before August 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Sarah Owen, Program Specialist, Floodplain Management Division, Mitigation Directorate, Federal Insurance and Mitigation Administration, FEMA at Sarah.Owen@fema.dhs.gov or (510) 409-4818.

SUPPLEMENTARY INFORMATION: The National Flood Insurance Program (NFIP) codified at 42 U.S.C. 4001, et seq. is authorized by Public Law 90-448 (1968) and expanded by Public Law 93-234 (1973). The Department of Homeland Security, Federal Emergency Management Agency (FEMA) administers the NFIP. The NFIP's major objective is to assure that participating communities are achieving the flood loss reduction objectives through adoption and enforcement of adequate land use and control measures. Sections 1315 and 1361 provide the basis for FEMA's process to evaluate how well communities are implementing their floodplain management programs. Title 44 CFR 59.22 directs the respondent to submit evidence of the corrective and preventive measures taken to meet the flood loss reduction objectives.

The two key methods FEMA uses in determining community assistance needs are through the Community Assistance Contact (CAC) and Community Assistance Visit (CAV), which serve to provide a systematic means of monitoring community NFIP compliance. Through the CAC and CAV, FEMA can also determine to what extent communities are achieving the flood loss reduction objectives of the NFIP. By providing assistance to communities, the CAC and CAV also serve to enhance FEMA's goals of reducing future flood losses, thereby achieving the NFIP's cost-containment objective. The burden hours and costs associated with this collection were re-evaluated which led to the main revision in this extension request.

FEMA is moving away from CAV and CAC reports to the newly designed process of NFIP Compliance Audits in response to a report issued on May 5, 2020, by the Government Accounting Office (GAO) entitled “National Flood Insurance Program: FEMA Can Improve Community Oversight and Data Sharing.” This report gave several recommendations including the following: assess different approaches for ensuring compliance with NFIP requirements and ensure data on community visits are up-to-date and complete. While the new NFIP Compliance Audit process aligns with the old CAV and CAC processes, it is more organized, more consistent, more transparent, and allows for better documentation. The main efficiency gained in the new process is that it is a progressive audit which allows for varying depths of investigation based on the community's needs. Another efficiency is a compliance score. These two improvements will allow FEMA to better utilize limited resources to increase community compliance.

FEMA is also adding the collection of information from NFIP-participating communities in order to comply with the Endangered Species Act. The information may include the impact of the proposed development on the natural floodplain functions, the amount of fill, compensatory storage information, the amount of impervious surface, the area in which clearing/grading may occur, the number of trees removed, and other information related to hydraulic connections.

This proposed information collection previously published in the Federal Register on March 28, 2024, at 89 FR 21534 with a 60-day public comment period. FEMA received no public comments. The purpose of this notice is to notify the public that FEMA will submit the information collection abstracted below to the Office of Management and Budget for review and clearance.

Collection of Information

Title: Community Assistance Contact (CAC) Reports, Community Assistance Visit (CAV) Reports, and National Flood Insurance Program (NFIP) Compliance Audit Reports.

Type of Information Collection: Revision of a currently approved information collection.

OMB Number: 1660-0023.

FEMA Forms: FEMA Form FF-206-FY-21-141 (formerly 086-0-28(E)), Community Assistance Visit (CAV) Report; FEMA Form FF-206-FY-21-142 (formerly 086-0-29(E)), Community Assistance Contact (CAC) Report; and FEMA Form FF-206-FY-24-100, NFIP Compliance Audit Report.

Abstract: FEMA previously used the Community Assistance Contact (CAC) and the Community Assistance Visit (CAV) to make a comprehensive assessment of a community's floodplain management program. Through this assessment, FEMA assisted the community to understand the NFIP's requirements and implement effective flood loss reductions measures. Communities can achieve cost savings through flood mitigation actions by way of insurance premium discounts and reduced property damage. The CAV and CAC processes have been updated recently to the NFIP Compliance Audit process which aims to do a more efficient, consistent and transparent job of assessing the community's floodplain management program, providing them with the needed technical assistance to improve it, and documenting the results for data analysis.

Affected Public: State, Local or Tribal Governments.

Estimated Number of Respondents: 102.

Estimated Number of Responses: 4,002.

Estimated Total Annual Burden Hours: 48,002.

Estimated Total Annual Respondent Cost: $2,361,698.

Estimated Respondents' Operation and Maintenance Costs: $0.

Estimated Respondents' Capital and Start-Up Costs: $0.

Estimated Total Annual Cost to the Federal Government: $2,216,556.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-15592 Filed 7-15-24; 8:45 am]

BILLING CODE 9111-47-P